ENVIRONMENTAL PROTECTION AGENCY

[FRL-6606-1]

Chesapeake Bay Program Activities Grants

AGENCY: Environmental Protection Agency (EPA).

ACTION: Notice.

SUMMARY: The U.S. Environmental Protection Agency is issuing a request for proposals that will assist the Chesapeake Bay Program in meeting its goals and commitments. Approximately $2 million is available through the RFP. Subjects addressed in the RFP include air quality, nutrients, sediments, best management practices, chemical contaminants, communication, exotic species, fish, habitat restoration, oysters, student engagement, submerged aquatic vegetation, water quality, local government and community engagement, and sound land use. Functional categories that proposals should fall under include implementation and technical assistance; workshops, seminars, and training; monitoring and assessment; research and analysis; and education and outreach. Applicants must be a non-profit organization, local government, state agency, interstate agency, college, or university institution. Funding will be provided to an organization under the authority of the Clean Water Act, section 117.

The RFP is available starting May 5, 2000 at the following web-site: http://www.epa.edu/r3chespk/ You may request a paper copy by calling Carol Cochran at 215-815-2986 or by e-mail cochran.carol@epa.gov or by calling Lori Mackey at 410-267-5715 or e-mail at mackey.lori@epa.gov. All proposals must be received by the Chesapeake Bay Program Office by close of business June 9, 2000. Any late, incomplete, or faxed proposals will not be considered.

Peter J. Marx,
Acting Director, Chesapeake Bay Program.

[FR Doc. 00-12000 Filed 5-11-00; 8:45 am]

BILLING CODE 6560-50-M